DEPARTMENT OF AGRICULTURE

Federal Crop Insurance Corporation

7 CFR Part 457

[Docket No. FCIC-17-0004]

RIN 0563-AC56

Catastrophic Risk Protection Endorsement; Area Risk Protection Insurance Regulations; and the Common Crop Insurance Regulations, Basic Provisions

AGENCY: Federal Crop Insurance Corporation, USDA.

ACTION: Correcting amendment.

SUMMARY: This document contains necessary amendments to address corrections in the final rule with request for comments for the Catastrophic Risk Protection Endorsement, the Area Risk Protection Insurance Basic Provisions, and the Common Crop Insurance Policy Basic Provisions which published in the Federal Register on November 24, 2017.

DATES: Effective Date: March 16, 2018.

FOR FURTHER INFORMATION CONTACT: Francie Tolle, Director, Product Management, Product Administration and Standards Division, Risk Management Agency, United States Department of Agriculture, Beacon Facility, Stop 0812, Room 421, P.O. Box 419205, Kansas City, MO 64141-6205, telephone (816) 926-7730.

SUPPLEMENTARY INFORMATION:

Background

This correction is being published to correct section 18(f)(2)(iv) of the Common Crop Insurance Policy Basic Provisions, published November 24, 2017 (82 FR 55723-55734). The term “and” at the end of the paragraph following the semicolon was inadvertently omitted and is being added in this correction.

List of Subjects in 7 CFR Part 457

Administrative practice and procedure, Crop insurance, Reporting and recordkeeping requirements.

Need for Correction

Accordingly, 7 CFR part 457 is corrected by making the following amendments:

PART 457—COMMON CROP INSURANCE REGULATIONS

1. The authority citation for part 457 continues to read as follows:

Authority: 7 U.S.C. 1506(l) and 1506(o).

§ 457.8 [Amended]

2. Amend § 457.8, in the Common Crop Insurance Policy, in section 18(f)(2)(iv), by adding the term “and” at the end of the paragraph following the semicolon.

Signed in Washington, DC, on March 6, 2018.
Heather Manzano,
Acting Manager, Federal Crop Insurance Corporation.

[FR Doc. 2018-05391 Filed 3-15-18; 8:45 am]

BILLING CODE 3410-08-P